DEPARTMENT OF THE TREASURY

United States Mint

Notification of American Eagle Silver and Gold Proof Coin Price Increases

SUMMARY: The United States Mint is increasing the prices for purchases of American Eagle silver and gold proof coins because of recent increases of the cost of silver and gold.

Pursuant to the authority that 31 U.S.C. 5112(f)&(i) grants to the Secretary of the Treasury to mint and issue silver and gold coins, and the authority that 31 U.S.C. 5111(a)(3) grants to the Secretary of the Treasury to prepare and distribute numismatic items, the United States Mint mints and issues 1-ounce silver proof coins known as “American Eagle Silver Proof Coins,” and 1-ounce, ½-ounce, ¼-ounce, and ⅒-ounce gold proof coins known as “American Eagle Gold Proof Coins.” The United States Mint is changing the price of these coins to reflect the increased costs of their precious metal content. Accordingly, effective February 2, 2006, the United States Mint will commence selling these coins according to the following price schedule: Silver 1-ounce ($27.95); gold four-coin set ($1,350); gold 1-ounce ($770); gold ½-ounce ($385); gold ¼-ounce ($200); gold ⅒-ounce ($100).

FOR FURTHER INFORMATION CONTACT: Gloria Eskridge, Associate Director for Sales and Marketing; United States Mint; 801 Ninth Street, NW.; Washington, DC 20220; or call 202-354-7500.

Authority: 31 U.S.C. 5111 and 5112.

Dated: February 2, 2006.
David A. Lebryk,
Acting Director, United States Mint.

[FR Doc. E6-1760 Filed 2-8-06; 8:45 am]

BILLING CODE 4810-37-P